DEPARTMENT OF COMMERCE

International Trade Administration

[A-570-878]

Saccharin From the People's Republic of China: Final Results of Antidumping Duty Administrative Review and Rescission in Part

AGENCY: Import Administration, International Trade Administration, Department of Commerce.

DATES: August 15, 2012.

SUMMARY: On April 12, 2012, the U.S. Department of Commerce (“the Department”) published the preliminary results of the administrative review of the antidumping duty order on saccharin from the People's Republic of China (“PRC”) for the period of review (“POR”) July 1, 2010, through June 30, 2011.¹ We invited interested parties to comment on the preliminary results but received no comments. Therefore, our final results remain unchanged from the preliminary results of review.

¹ See Saccharin From the People's Republic of China: Preliminary Results of Antidumping Duty Administrative Review and Intent To Rescind in Part, 77 FR 21966 (April 12, 2012) (“Preliminary Results”).

FOR FURTHER INFORMATION CONTACT: Paul Stolz, AD/CVD Operations, Office 8, Import Administration, International Trade Administration, U.S. Department of Commerce, 14th Street and Constitution Avenue NW., Washington, DC 20230; telephone: (202) 482-4474.

SUPPLEMENTARY INFORMATION:

Background

On April 12, 2012, the Department published the preliminary results of this administrative review in the Federal Register. In these results, we preliminarily determined to rescind the review with respect to Kingchem LLC (“Kingchem”). We also preliminarily determined that four companies did not demonstrate that they were entitled to a separate rate. We invited parties to comment on the preliminary results but received no comments or requests for a hearing.

Period of Review

The period of review is July 1, 2010 through June 30, 2011.

Scope of the Order

The product covered by the antidumping duty order is saccharin. Saccharin is defined as a non-nutritive sweetener used in beverages and foods, personal care products such as toothpaste, table top sweeteners, and animal feeds. It is also used in metalworking fluids. There are four primary chemical compositions of saccharin: (1) Sodium saccharin (American Chemical Society Chemical Abstract Service (“CAS”) Registry 128-44-9); (2) calcium saccharin (CAS Registry 6485-34-3); (3) acid (or insoluble) saccharin (CAS Registry 81-07-2); and (4) research grade saccharin. Most of the U.S.-produced and imported grades of saccharin from the PRC are sodium and calcium saccharin, which are available in granular, powder, spray-dried powder, and liquid forms. The merchandise subject to the order is currently classifiable under subheading 2925.11.00 of the Harmonized Tariff Schedule of the United States (“HTSUS”) and includes all types of saccharin imported under this HTSUS subheading, including research and specialized grades. Although the HTSUS subheading is provided for convenience and customs purposes, the Department's written description of the scope of the order remains dispositive.

Final Results

Rescission in Part

In the preliminary results of this review the Department stated that it intended to rescind this review with respect to Kingchem, for which the request for review was timely withdrawn.² Pursuant to 19 CFR 351.213(d)(1), the Secretary will rescind an administrative review, in whole or in part, if a party who requested the review withdraws the request within 90 days of the day of publication of notice of initiation of the requested review. The aforementioned request for review was withdrawn within the 90-day period. Because the request for review was withdrawn and because no other party requested a review of Kingchem, in accordance with 19 CFR 351.213(d)(1), we are partially rescinding this review with respect to this company.

² See Preliminary Results, 77 FR at 21967.

The PRC-Wide Entity

In the Preliminary Results, the Department preliminarily found that Fine Chemical, Changjie Chemical, North Food, and Embaiking Pharmaceutical did not demonstrate that they were entitled to a separate rate.³ Therefore, the Department preliminarily found that they should be considered part of the PRC-wide entity for this review. No party commented on the Department's preliminary finding. For the final results the Department continues to find that these companies should be considered part of the PRC-wide entity for this review.

³ Id.

Third-Country Exporters

In the Preliminary Results, the Department preliminarily found that because Escalade, High Trans Corporation, Seicheng Chemical, Yuan Shan, Sin-Ho Trading, Long Hwang Chemicals, and Sun Disc are third-country exporters located outside of the PRC, and they do not have individual exporter rates, their entries of subject merchandise should be assessed at the rate applicable to their PRC suppliers. No party commented on the Department's preliminary finding. For these final results, the Department continues to find that their entries of subject merchandise should be assessed at the rate applicable to their PRC suppliers.

Assessment Rates

For all shipments of the subject merchandise by the PRC-wide entity entered, or withdrawn from warehouse, for consumption during the POR we will instruct U.S. Customs and Border Protection (“CBP”) to assess antidumping duties at the ad valorem PRC-wide entity rate of 329.94 percent.⁴ For all non-PRC exporters of subject merchandise which have not received their own rate, we will instruct CBP to assess the rate applicable to the PRC exporter(s) that supplied that non-PRC exporter. The Department intends to issue assessment instructions directly to CBP 15 days after the publication of the final results in the Federal Register.

⁴ See Notice of Amended Final Determination of Sales at Less Than Fair Value: Saccharin from the People's Republic of China, 68 FR 35383 (June 13, 2003).

Cash Deposit Requirements

The following cash deposit requirements will be effective upon publication of the final results of this administrative review for all shipments of the subject merchandise entered, or withdrawn from warehouse, for consumption on or after the publication date, as provided for by section 751(a)(2)(C) of the Tariff Act of 1930, as amended (“the Act”): (1) For previously investigated or reviewed PRC and non-PRC exporters that have separate rates, the cash deposit rate will continue to be the exporter-specific rate published for the most recent period; (2) for all PRC exporters of subject merchandise which have not been found to be entitled to a separate rate, the cash deposit rate will be the PRC-wide entity rate of 329.94 percent; and (3) for all non-PRC exporters of subject merchandise which have not received their own rate, the cash deposit rate will be the rate applicable to the PRC exporter that supplied that non-PRC exporter. These requirements, when imposed, shall remain in effect until further notice.

Notifications to Interested Parties

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective order (“APO”) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation, which is subject to sanction.

We are issuing and publishing this notice in accordance with sections 751(a)(1) and 777(i)(1) of the Act.

Dated: August 8, 2012.
Paul Piquado,
Assistant Secretary for Import Administration.

[FR Doc. 2012-20053 Filed 8-14-12; 8:45 am]

BILLING CODE 3510-DS-P